DEPARTMENT OF DEFENSE

Office of the Secretary

[Docket ID: DOD-2008-OS-0153]

Privacy Act of 1974; Systems of Records

AGENCY: Defense Finance and Accounting Service, DoD.

ACTION: Notice to add a new system of records.

SUMMARY: The Defense Finance and Accounting Service (DFAS) is proposing to add a system of records notice to its inventory of record systems subject to the Privacy Act of 1974, (5 U.S.C. 552a), as amended.

DATES: This action will be effective without further notice on January 12, 2009 unless comments are received that would result in a contrary determination.

ADDRESSES: Send comments to the FOIA/PA Program Manager, Corporate Communications and Legislative Liaison, Defense Finance and Accounting Service, 8899 E. 56th Street, Indianapolis, IN 46249-0150.

FOR FURTHER INFORMATION CONTACT: Ms. Linda Krabbenhoft at (303) 589-3510.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on December 4, 2008, to the House Committee on Government Reform, the Senate Committee on Governmental Affairs, and the Office of Management and Budget (OMB) pursuant to paragraph 4c of Appendix I to OMB Circular No. A-130, “Federal Agency Responsibilities for Maintaining Records about Individuals”, dated December 12, 2000, 65 FR 239.

Dated: December 8, 2008.
Morgan E. Frazier,
Alternate OSD Federal Register Liaison Officer, Department of Defense.

T-7300a

SYSTEM NAME:

Voucher Processing System (VPS).

SYSTEM LOCATION:

Document Automation and Production Services (DAPS), 5450 Carlisle Pike, Building 410, Mechanicsburg, PA 17050-2411.

Document Automation and Production Services (DAPS), 8000 Jefferson Davis Highway, Richmond, Virginia 23237-4480.

CATEGORIES OF INDIVIDUALS COVERED BY THE SYSTEM:

Active duty, Reserve and National Guard, Army, Navy, Air Force, and Marine Corps military members, DoD civilians, vendors and private citizens.

CATEGORIES OF RECORDS IN THE SYSTEM:

Name, Social Security Number (SSN), addresses, payroll data, vendor name and address, accounting, commercial pay, travel and military pay disbursement and collection voucher data, voucher control logs, voucher numbers, deposit funds data, and end-of-day reports data.

AUTHORITY FOR MAINTENANCE OF THE SYSTEM:

5 U.S.C. 301, Departmental Regulations; 31 U.S.C. Sections 3325, 3511, 3512, 3513; Department of Defense Financial Management Regulation (DoDFMR) 7000.14R, Vol. 5, and E.O. 9397 (SSN).

PURPOSE(S):

Used as a centralized repository that receives and stores accounting, commercial pay, travel, and military pay disbursement and collection voucher data. It will produce voucher control logs and management reports, such as end-of-day report used by management to monitor disbursements and collections.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

To the Internal Revenue Service to report taxable earnings and taxes withheld, accounting, and tax audits, and to compute or resolve tax liability or tax levies.

To the Social Security Administration to report earned wages by members for the Federal Insurance Contribution Act, accounting or tax audits, and death notices.

To Federal Reserve banks to distribute payments made through the direct deposit system to financial organizations or their processing agents authorized by individuals to receive and deposit payments in their accounts.

The DoD “Blanket Routine Uses” published at the beginning of the DFAS compilation of systems of records notices also apply to this system.

POLICIES AND PRACTICES FOR STORING, RETRIEVING, ACCESSING, RETAINING, AND DISPOSING OF RECORDS IN THE SYSTEM:

STORAGE:

Electronic storage media and paper records.

RETRIEVABILITY:

Name and Social Security Number (SSN).

SAFEGUARDS:

Records are stored in an office building protected by guards, controlled screening, use of visitor registers, electronic access, and/or locks. Access to records is limited to individuals who are properly screened and cleared on a need to know basis in the performance of their duties. Passwords and digital signatures are used to control access to the system data, and procedures are in place to deter and detect browsing and unauthorized access. Physical and electronic access are limited to persons responsible for servicing and authorized to use the system.

RETENTION AND DISPOSAL:

Records are cut off at the end of the month and destroyed 6 years and 3 months after cutoff. Records are destroyed by degaussing, burning, and shredding.

SYSTEM MANAGER(S) AND ADDRESS:

Voucher Processing System (VPS) Program Manager, Defense Finance and Accounting Service, Information and Technology Services, 1931 S. Bell Street, Arlington, VA 22240-0001.

NOTIFICATION PROCEDURE:

Individuals seeking to determine whether information about them is contained in this record system should address written inquiries to the Defense Finance and Accounting Service, Freedom of Information/Privacy Act Program Manager, Corporate Communications and Legislative Liaison, 8899 E. 56th Street, Indianapolis, IN 46249-0150.

Individuals should furnish full name, Social Security Number (SSN), current address, and telephone number.

RECORD ACCESS PROCEDURES:

Individuals seeking access to information about them contained in this system should address written inquiries to Defense Finance and Accounting Service, Freedom of Information/Privacy Act Program Manager, Corporate Communications and Legislative Liaison, 8899 E. 56th Street, Indianapolis, IN 46249-0150.

Individuals should furnish full name, Social Security Number (SSN), current address, and telephone number.

CONTESTING RECORD PROCEDURES:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 8899 E. 56th Street, Indianapolis, IN 46249-0150.

RECORD SOURCE CATEGORIES:

Individuals concerned, Department of Defense Components, such as Army, Navy, Air Force, and Marine Corps.

EXEMPTIONS CLAIMED FOR THE SYSTEM:

None.

[FR Doc. E8-29381 Filed 12-11-08; 8:45 am]

BILLING CODE 5001-06-P